DEPARTMENT OF THE INTERIOR

National Park Service

[NPS-WASO-NAGPRA-NPS0028962; PPWOCRADN0-PCU00RP14.R50000]

Notice of Intent To Repatriate Cultural Items: Sam Noble Oklahoma Museum of Natural History, Norman, OK

AGENCY: National Park Service, Interior.

ACTION: Notice.

SUMMARY: The Sam Noble Oklahoma Museum of Natural History at the University of Oklahoma has determined that the cultural items listed in this notice meet the definition of unassociated funerary objects. Lineal descendants or representatives of any Indian Tribe or Native Hawaiian organization not identified in this notice that wish to claim these cultural items should submit a written request to the Sam Noble Oklahoma Museum of Natural History. If no additional requesters come forward, transfer of control of the associated funerary objects to the lineal descendants, Indian Tribes, or Native Hawaiian organizations stated in this notice may proceed.

DATES: Lineal descendants or representatives of any Indian Tribe or Native Hawaiian organization not identified in this notice that wish to claim these cultural items should submit a written request with information in support of the request to the Sam Noble Oklahoma Museum of Natural History at the address in this notice by November 8, 2019.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: Notice is here given in accordance with the Native American Graves Protection and Repatriation Act (NAGPRA), 25 U.S.C. 3005, of the intent to repatriate cultural items under the control of the Sam Noble Oklahoma Museum of Natural History, Norman, OK, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1980, 483 cultural items were removed from the Converse 2 site (34Jn28) in Johnston County, OK, during excavations carried out by the Oklahoma Anthropological Society. The cultural materials were later brought to the Sam Noble Oklahoma Museum of Natural History. The 483 cultural items were found associated with the human remains of an infant that was designated “burial 3.” The human remains were either left in situ or were removed and subsequently lost following recovery from the field. The 483 unassociated funerary objects are one chipped stone biface fragment, one modified chipped stone flake, 299 unmodified chipped stone flakes, one chipped stone projectile point, one chipped stone projectile point base, one chipped stone scraper, one faunal bone awl, 150 faunal bone fragments, 25 shell fragments, and three charcoal fragments. The Converse 2 site dates to the Plains Woodland Period (300 B.C.-A.D. 1000). Archeological research, oral history, and post-contact European records support cultural affiliation of these funerary objects with the Wichita and Affiliated Tribes (Wichita, Keechi, Waco & Tawakonie), Oklahoma.

Determinations Made by the Sam Noble Oklahoma Museum of Natural History

Officials of the Sam Noble Oklahoma Museum of Natural History have determined that:

• Pursuant to 25 U.S.C. 3001(3)(B), the 483 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Wichita and Affiliated Tribes (Wichita, Keechi, Waco & Tawakonie), Oklahoma.

Additional Requesters and Disposition

Lineal descendants or representatives of any Indian Tribe or Native Hawaiian organization not identified in this notice that wish to claim these cultural items should submit a written request with information in support of the claim to Dr. Marc Levine, Associate Curator of Archaeology, Sam Noble Oklahoma Museum of Natural History, University of Oklahoma, 2401 Chautauqua Avenue, Norman, OK 73072-7029, telephone 405-325-1994, email mlevine@ou.edu, by November 8, 2019. After that date, if no additional requestors have come forward, transfer of control of the unassociated funerary objects to the Wichita and Affiliated Tribes (Wichita, Keechi, Waco & Tawakonie), Oklahoma, may proceed.

The Sam Noble Oklahoma Museum of Natural History is responsible for notifying the Wichita and Affiliated Tribes (Wichita, Keechi, Waco & Tawakonie), Oklahoma, that this notice has been published.

Dated: September 20, 2019
Melanie O'Brien,
Manager, National NAGPRA Program.

[FR Doc. 2019-22045 Filed 10-8-19; 8:45 am]

BILLING CODE 4312-52-P